CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, CNCS is soliciting comments concerning the data elements and questions that will be collected on its Grantee Progress Report (GPR) for the following grant programs: AmeriCorps State and National operating grants, AmeriCorps State and National planning grants, School Turnaround AmeriCorps grants, Volunteer Generation Fund grants, Commission Investment Funds grants, and State Commission Support grants. All grantees of these programs are required to complete a full annual GPR and an abbreviated mid-year GPR six months prior to the annual GPR. Grantees also complete an abbreviated final GPR, which is identical to the mid-year GPR, at the end of their overall grant period. The GPR provides information for CNCS staff to monitor grantee progress and to respond to requests from Congress and other stakeholders.

Copies of the information collection request can be obtained by contacting the office listed in the ADDRESSES section of this notice.

DATES: Written comments must be submitted to the individual and office listed in the ADDRESSES section by November 15, 2016.

ADDRESSES: You may submit comments, identified by the title of the information collection activity, by any of the following methods:

(1) By mail sent to: Corporation for National and Community Service, AmeriCorps State and National, Attention Carla Ganiel, Senior Program and Project Specialist, Room 3221D, 250 E Street SW., Washington, DC 20024.

(2) By hand delivery or by courier to the CNCS mailroom at Room 4300 at the mail address given in paragraph (1) above, between 9:00 a.m. and 4:00 p.m. Eastern Time, Monday through Friday, except Federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: Carla Ganiel, 202-606-6773, or by email at cganiel@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

Currently, all grantees of the AmeriCorps State and National, School Turnaround AmeriCorps, the Volunteer Generation Fund, and Commission Support programs complete the annual GPR, mid-year GPR, and final GPR, which provide information for CNCS staff to monitor grantee progress and to respond to requests from Congress and other stakeholders. The information is collected electronically through the eGrants system.

Current Action

CNCS seeks to renew the current information collection for programs which currently complete the GPR, and expand the use of the GPR to include two additional grant programs, the Commission Investment Funds and AmeriCorps State and National Planning Grants. CNCS has revised its GPRs to ensure consistency and reduce duplication across these grant programs. The information collection will otherwise be used in the same manner as the existing GPR. CNCS also seeks to continue using the current application until the revised GPR information collection is approved by OMB. The current GPR information collections are due to expire as follows: AmeriCorps State and National expires January 31, 2017; School Turnaround AmeriCorps expires March 31, 2017; Volunteer Generation Fund expires November 30, 2017; Commission Support Grant expires December 31, 2017.

Type of Review: New.

Agency: Corporation for National and Community Service.

Title: Grantee Progress Report.

OMB Number: TBD.

Agency Number: None.

Affected Public: Grantees who receive grants in the following programs: AmeriCorps State and National, School Turnaround AmeriCorps, Volunteer Generation Fund, Commission Support, Commission Investment Funds, AmeriCorps State and National Planning Grants.

Total Respondents: 672 responses.

Frequency: Semi-annual.

Average Time per Response: 8 hours.

Estimated Total Burden Hours: 5,376.

Total Burden Cost (capital/startup): None.

Total Burden Cost (operating/maintenance): None.

Comments submitted in response to this notice will be summarized and/or included in the request for Office of Management and Budget approval of the information collection request; they will also become a matter of public record.

Dated: September 12, 2016.
Bill Basl,
Director, AmeriCorps State and National.

[FR Doc. 2016-22243 Filed 9-15-16; 8:45 am]

BILLING CODE 6050-28-P